DEPARTMENT OF THE INTERIOR

National Park Service

[NPS-NERO-STSP-11397; PPNESTSP00]

Notice of Meeting for Star-Spangled Banner National Historic Trail Advisory Council

AGENCY: National Park Service, Interior.

ACTION: Notice of Meeting.

SUMMARY: As required by the Federal Advisory Committee Act, the National Park Service (NPS) is hereby giving notice that the Advisory Committee on the Star-Spangled Banner National Historic Trail will hold a meeting. Designated through an amendment to the National Trails System Act (16 U.S.C. 1241), the trail consists of “water and overland routes totaling approximately 290 miles, extending from Tangier Island, Virginia, through southern Maryland, the District of Columbia, and northern Virginia, in the Chesapeake Bay, Patuxent River, Potomac River, and north to the Patapsco River, and Baltimore, Maryland, commemorating the Chesapeake Campaign of the War of 1812 (including the British invasion of Washington, District of Columbia, and its associated feints, and the Battle of Baltimore in summer 1814).” This meeting is open to the public. Pre-registration is required for both public attendance and comment. Any individual who wishes to attend the meeting and/or participate in the public comment session should register via email at Christine_Lucero@nps.gov or telephone: (757) 258-8914. For those wishing to make comments, please provide a written summary of your comments prior to the meeting. The Designated Federal Official for the Advisory Council is John Maounis, Superintendent, Star Spangled Banner National Historic Trail, telephone: (410) 260-2471.

DATES: The Star-Spangled Banner National Historic Trail Advisory Council will meet from 10:00 a.m. to 4:00 p.m. on Tuesday, October 17, 2012, (EASTERN).

Location: The meeting will be held at King's Landing Park, 3255 King's Landing Road, Huntingtown, MD 20639. For more information, please contact the NPS Chesapeake Bay Office, 410 Severn Avenue, Suite 314, Annapolis, Maryland 21403.

FOR FURTHER INFORMATION CONTACT: John Maounis, Superintendent, Star-Spangled Banner National Historic Trail, telephone: (410) 260-2471.

SUPPLEMENTARY INFORMATION: Under section 10(a)(2) of the Federal Advisory Committee Act (5 U.S.C. App.), this notice announces a meeting of the Star-Spangled Banner National Historic Trail Advisory Council. Topics to be discussed include setting priorities for implementation of the Comprehensive Management Plan and collaborative education projects. Members of the public who would like to make comments to the Committee should preregister via email at Christine_Lucero@nps.gov or telephone: (757) 258-8914; a written summary of comments should be provided prior to the meeting. Comments will be taken for 30 minutes at the end of the meeting (from 3:30 p.m. to 4:00 p.m.). Before including your address, telephone number, email address, or other personal indentifying information in your comment, you should be aware that your entire comment-including your personal identifying information-may be made publicly available at any time. While you can ask us in your comment to withhold your personal identifying information from public review, we cannot guarantee that we will be able to do so. All comments will be made part of the public record and will be electronically distributed to all Committee members.

Dated: October 1, 2012.
John Maounis,
Superintendent, Star-Spangled Banner National Historic Trail.

[FR Doc. 2012-24723 Filed 10-5-12; 8:45 am]

BILLING CODE 4310-EE-P